NATIONAL SCIENCE FOUNDATION

National Science Board; Sunshine Act Meetings; Notice

The National Science Board, pursuant to NSF regulations (45 CFR part 614), the National Science Foundation Act, as amended (42 U.S.C. 1862n-5), and the Government in the Sunshine Act (5 U.S.C. 552b), hereby gives notice in regard to the scheduling of meetings for the transaction of National Science Board business and other matters specified, as follows:

Agency Holding Meeting: National Science Board.

Date and Time: Wednesday, March 26, 2008, at 8:30 a.m.; and Thursday, March 27, 2008, at 8:30 a.m.

Place: National Science Foundation, 4201 Wilson Blvd., Room 1235, Arlington, VA 22230. All visitors must report to the NSF visitor desk at the 9th and N. Stuart Streets entrance to receive a visitor's badge.

Status: Some portions open, some portions closed.

Open Sessions:

March 26, 2008

8:30 a.m.-9 a.m.

9 a.m.-10:30 a.m.

10:30 a.m.-11 a.m.

1 p.m.-2 p.m.

2 p.m.-3:30 p.m.

5 p.m.-5:20 p.m.

March 27, 2008

9 a.m.-9:45 a.m.

9:45 a.m.-10:15 a.m.

10:15 a.m.-12 noon

1:45 p.m.-2:30 p.m.

Closed Sessions:

March 26, 2008

11 a.m.-12 noon

3:30 p.m.-5 p.m.

March 27, 2008

8:30 a.m.-9 a.m.

1 p.m.-1:30 p.m.

1:30 p.m.-1:45 p.m.

Agency Contact: Dr. Robert E. Webber, rwebber@nsf.gov, (703) 292-7000, http://www.nsf.gov/nsb/.

Matters to be Discussed:

Wednesday, March 26, 2008

CSB Task Force on Cost Sharing

Open Session: 8:30 a.m.-9 a.m.

• Approval of February Minutes.

• Task Force Chairman's Remarks.

• Discussion of Planned Roundtable Discussions on Cost Sharing.

• Discussion of Web-based Survey on Cost Sharing.

EHR Subcommittee on Science & Engineering Indicators

Open Session: 9 a.m.-10:30 a.m.

• Approval of February Minutes.

• Chairman's Remarks.

• Report on Luncheon Meeting with Government-University-Industry Research Roundtable.

• SRS Presentation on Efforts to Develop New Data and Indicators for Science and Engineering Indicators 2010 and Beyond.

• Additional Activities Relating to Science and Engineering Indicators 2010.

• Presentation on Electronic “Digest”.

• Presentation on State Data Tool.

• Chairman's Summary.

Committee on Strategy and Budget

Open Session: 10:30 a.m.-11 a.m.

• Approval of February Minutes.

• Committee Chairman's Remarks.

• Status Report: CSB Task Force on Cost Sharing.

• Discussion of NSF Policies regarding Limitations on the Number of Proposal Submissions to a given solicitation by a Single Institution.

CPP Subcommittee on Polar Issues

Closed Session: 11 a.m.-12 noon

• NSB Action Item: Request for Proposal and Award of a Support Contract for the United States Antarctic Program.

Committee on Education and Human Resources

Open Session: 1 p.m.-2 p.m.

• Approval of December 2007 Minutes.

• Committee Chairman's Remarks.

• Educational Programs and the University of Hawaii-Hilo.

• Status of Subcommittee on Science and Engineering Indicators.

• Discussion: Preparing the Next Generation of STEM Innovators.

• Board Executive Officer's Report.

Committee on Programs and Plans

Open Session: 2 p.m.-3:30 p.m.

• Approval of February Minutes.

• Committee Chairman's Remarks.

• Status Report: Subcommittee on Polar Issues.

■ Approval of February SOPI Minutes.

• NSB Information Item: DataNet.

• NSB Information Item: Science of Learning Centers (SLC) Programmatic Update.

• NSB Information Item: General Social Survey (GSS).

• NSB Information Item: Competition for the Management and Operation of the National Center for Atmospheric Research (NCAR).

• Discussion Item: Follow up to the NSB Report to Congress on Pre-construction Funding and Maintenance and Operations Costs Associated with Major Research Equipment and Facilities at the National Science Foundation.

Committee on Programs and Plans

Closed Session: 3:30 p.m.-5 p.m.

• NSB Information Item: High Performance Computing (HPC) Program Updates.

• NSB Action Item: Request for Proposal and Award of a Support Contract for the United States Antarctic Program.

• NSB Action Items: LIGO Operations and Maintenance/AdvLIGO Construction.

Executive Committee

Open Session: 5 p.m.-5:20 p.m.

• Approval of February Minutes.

• Executive Committee Chairman's Remarks.

• Updates or New Business from Committee Members.

Thursday, March 27, 2008

Audit and Oversight Committee

Closed Session: 8:30 a.m.-9 a.m.

• Pending Investigations.

Open Session: 9 a.m.-9:45 a.m.

• Approval of February Minutes.

• Committee Chairman's Opening Remarks.

• NSF Human Capital Management Update.

• Chief Financial Officer's Update.

• Briefing on FY 2008 Financial Statement Audit.

CPP Task Force on Sustainable Energy

Open Session: 9:45 a.m.-10:15 a.m.

• Approval of February Minutes.

• Task Force Co-Chairmen's Remarks.

• Review of February 8, 2008 Roundtable Discussion.

• Discussion of Upcoming Task Force Activities.

Committee on Programs and Plans

Open Session: 10:15 a.m.-12 noon

• Status Report: Task Force on Sustainable Energy.

• NSF Update on the Working Group on Facilitating Transformative and Interdisciplinary Research (FacTIR).

• Discussion Item: Report to Congress on Interdisciplinary Research.

• Science Presentation: “The Breadth of NSF Mathematical and Physical Sciences”.

Plenary Executive Closed

Closed Session: 1 p.m.-1:30 p.m.

• Approval of February Minutes.

• Elections for ad hoc Committee on Nominating for NSB Elections.

• Approval of Alan T. Waterman Award Recipient.

Plenary Closed

Closed Session: 1:30 p.m.-1:45 p.m.

• Approval of February Minutes.

• Awards and Agreements.

• Closed Committee Reports.

Plenary Session

Open Session: 1:45 p.m.-2:30 p.m.

• Approval of February Minutes.

• Resolution to Close May 2008 Meeting.

• Chairman's Report.

• Director's Report.

• Open Committee Reports.

Russell Moy,
Attorney-Advisor.

[FR Doc. E8-5757 Filed 3-20-08; 8:45 am]

BILLING CODE 7555-01-P